DEPARTMENT OF DEFENSE

Department of the Army; Corps of Engineers

Final Supplement to the Environmental Impact Statement To Evaluate Construction of Authorized Improvements to the Gulfport Harbor Federal Navigation Project in Harrison County, MS

AGENCY: Department of the Army, U.S. Army Corps of Engineers, DoD.

ACTION: Notice of availability.

SUMMARY: This notice of availability announces the public release of the Final Supplement to the Environmental Impact Statement (SEIS) to evaluate construction of authorized improvements to the Gulfport Harbor Federal navigation project in Harrison County, MS. The Mobile District, U.S. Army Corps of Engineers (Corps) published in the Federal Register, March 31, 2006, (71 FR 16294) a Notice of Intent to Prepare a Draft SEIS to address the potential impacts associated with construction of authorized improvements to the Federal Gulfport Harbor navigation project in Harrison County, MS. The Corps published in the Federal Register, February 9, 2007, (72 FR 6224) a Notice of Availability of the Draft SEIS. Comments were received and incorporated into the Final SEIS. The Final SEIS will be used as a basis for ensuring compliance with the National Environmental Policy Act (NEPA). The Corps' proposed action in the Final SEIS includes widening the Federally authorized Mississippi Sound channel to 300 feet and the Bar channel to 400 feet. In addition, disposal of the associated dredged material would be placed beneficially in water depths of 25 feet or greater east of the Chandeleur Islands and material dredged from within the Ship Island Pass (littoral zone) would be placed in the existing littoral zone disposal area in water depths between 14 feet and 18 feet. Future maintenance material dredged from the navigation channel would be placed in open-water sites within Mississippi Sound utilizing thin-layer disposal methods, the existing littoral zone disposal area, and within the existing Ocean Dredged Material Disposal Sites.

ADDRESSES: To receive an electronic copy of the Final SEIS or to submit comments, contact U.S. Army Corps of Engineers, Mobile District, Planning Division, P.O. Box 2288, Mobile, AL 36628-0001. A copy of the full document may also be viewed at the Public Library in Gulfport, Mississippi.

FOR FURTHER INFORMATION CONTACT: Questions about the proposed action and the Final SEIS should be addressed to Ms. Jennifer L. Jacobson, Chief, Coastal Environment Team, phone (251) 690-2724, Mobile District, U.S. Army Corps of Engineers, P.O. Box 2288, Mobile, AL 36628 or e-mail address: jennifer.l.jacobson@usace.army.mil.

SUPPLEMENTARY INFORMATION: 1. Gulfport Harbor is located in Harrison County, MS on Mississippi Sound about equidistant (80 miles) from New Orleans, LA, and Mobile, AL. The existing project was adopted by the River and Harbor Act approved July 3, 1930 (House Document number 692, 69th Congress, 2nd Session) and the River and Harbor Act approved June 30, 1948 (House Document Number 112, 81st Congress, 1st Session). Construction of the existing Federal project commenced in 1932, and was completed in 1950. The River and Harbor Act approved July 3, 1958 (Senate Document Number 123, 84th Congress, 2nd Session) adopted the small boat harbor as part of the existing Federal project. Deepening improvements to the existing Federal project at Gulfport Harbor was authorized in the Supplemental Appropriations Act of 1985 (Pub. L. 99-88), which was approved on August 15, 1985. The project was also authorized in the Water Resources Development Act (WRDA) of 1986 (Pub. L. 99-662), which was approved November 17, 1986, and provided for development to deepen and widen the existing ship channel 36 feet by 300 feet in Mississippi Sound, and 38 feet by 400 feet across the bar, with changes in the channel alignment and entrance to the anchorage basin for safe and unrestricted navigation.

The 1976 Feasibility Report considered a number of improvement plans, such as widening the Mississippi Sound channel to 300 feet at the existing 30-foot depth and deepening the channel in 2-foot increments to a maximum depth of 36 feet. In addition, widening the channel across the bar into the Gulf of Mexico to 400 feet at the existing 32-foot depth and deepening the channel in 2-foot increments to a maximum depth of 38 feet were also evaluated. The Corps analyzed realignment of the Ship Island channel, adjustment of the turning basin's width, and enlargement of the channel entrance into the turning basin. A number of disposal options were considered including: open-water alongside of the channels, island creation within Mississippi Sound, and use of specially designed equipment to transport the dredged material to sites within the Gulf of Mexico. The 1976 Feasibility Report recommended enlarging the Bar channel to 38 feet by 400 feet from the 38-foot depth contour in the Gulf of Mexico for a distance of about 9.1 miles to a point in Mississippi Sound near the western end of Ship Island; and enlarging the Mississippi Sound channel to 36 feet by 300 feet for a distance of about 11.8 miles between the inner end of the Gulf Entrance channel and the turning basin at Gulfport; realigning the Bar channel through Ship Island Pass to a location generally parallel to and about 1,000 feet west of that presently authorized, with a deposition basin for littoral drift 38 feet deep, 300 feet wide and 2,000 feet long adjacent to the east side of the channel at the west end of Ship Island; and enlarging and adjusting the dimensions of the turning basin and channel entrance by extending the southern limits of the basin seaward about 1,180 feet along the west pier and 2,300 feet along the west side of the Ship channel, decreasing the width of the turning basin from 1,320 feet, as presently authorized, to 1,120 feet, and deepening the basin and adjusted channel approach to 36 feet. Improvements of the Gulfport Harbor navigation project was initially authorized by the Fiscal Year 1985 Supplemental Appropriations Act (Pub. L. 99-88) in accordance with the 1976 Feasibility Report. As a result of this authorization, studies were initiated relative to the island construction within the Sound and the impacts of thin-layer disposal of new work material. This initial authorization was subsequently modified by the WRDA of 1986. A revised Draft Environmental Impact Statement (EIS), circulated in 1988, considered widening and deepening the existing Gulfport Harbor navigation channel to the authorized dimensions. In addition, five alignments for the channel segment through Ship Island Pass were also considered. Material from the construction and maintenance of the project were to be disposed of in the ocean sites. The WRDA of 1988 further modified the authorized project to include disposing of construction material via thin-layer disposal in Mississippi Sound under a demonstration program. The maintenance material would be disposed of in Mississippi Sound under a plan developed by the Secretary approved by the Administrator of the Environmental Protection Agency. The Corps published an EIS in June 1989 evaluating deepening and widening Gulfport Harbor with subsequent placement via thin-layer and ocean disposal. The Final SEIS uses the 1989 EIS as a reference during its evaluation of constructing Gulfport Harbor to the authorized project dimension. The Final SEIS evaluates any new conditions that were not previously addressed in the 1989 EIS.

2. Alternative scenarios considered include the “No action” alternative and widening to the Federally authorized dimension of 300 feet in the Mississippi Sound channel and 400 feet in the Bar channel. In addition, an array of disposal options were evaluated for placement of dredged material associated with construction of the project to its authorized dimension including future maintenance material. As a comment to the Draft SEIS, the Corps received requests from Louisiana Department of Natural Resources (DNR), dated June 19, 2007, Mississippi Department of Marine Resources, dated June 29, 2007, and St. Bernard Parish, dated April 2, 2007, to consider beneficial use of dredged material associated with Gulfport Harbor construction within the vicinity of Chandeleur and Cat Islands. Based on these discussions, a new alternative has been evaluated in the Final SEIS. This alternative considers beneficial placement of material dredged during construction of Gulfport Harbor to its authorized dimension in water depths of 25 feet or greater east of the Chandeleur Islands. Future maintenance material dredged from the navigation channel would be placed in open-water sites within Mississippi Sound utilizing thin-layer disposal methods, the existing littoral zone disposal area, and within the existing Ocean Dredged Material Disposal Sites.

3. Public comments can be submitted through a variety of methods. Written comments may be submitted to the Corps by mail, facsimile, or electronic methods. The public comment period for the Final SEIS will extend through March 29, 2009.

Dated: February 18, 2009.
Curtis M. Flakes,
Chief, Planning and Environmental Division.

[FR Doc. E9-4203 Filed 2-26-09; 8:45 am]

BILLING CODE 3720-58-P